FEDERAL MARITIME COMMISSION

Notice of Agreements Filed

The Commission hereby gives notice of the filing of the following agreements under the Shipping Act of 1984. Interested parties may obtain copies of agreements by contacting the Commission's Office of Agreements at (202) 523-5793 or via e-mail at tradeanalysis@fmc.gov. Interested parties may submit comments on an agreement to the Secretary, Federal Maritime Commission, Washington, DC 20573, within 10 days of the date this notice appears in the Federal Register.

Agreement No.: 010168-020.

Title: New Caribbean Service Rate Agreement.

Parties: CMA CGM, S.A.; P&O Nedlloyd B.V./P&O Nedlloyd Limited (acting as a single party); Hapag-Lloyd Container Linie GmbH; Hamburg-S¨damerikanische Dampfschifffahrts-Gesellschaft KG; and Compania Sud Americana de Vapores, S.A.

Filing Party: Wayne R. Rohde, Esq., Sher & Blackwell, 1850 M Street, NW., Suite 900, Washington, DC 20036.

Synopsis: The amendment clarifies that any two or more parties may meet but that any agreements reached are not actions of the agreement unless approved by a majority vote. It also adds a new Article XVI dealing with responsibility for civil penalties and restates the agreement.

Agreement No.: 011852-021.

Title: Maritime Security Discussion Agreement.

Parties: China Shipping Container Lines, Co., Ltd.; Hyundai Merchant Marine Co., Ltd.; Kawasaki Kisen Kaisha, Ltd.; Nippon Yusen Kaisha; Yang Ming Marine Transport Corp.; Zim Integrated Shipping Services, Ltd.; Alabama State Port Authority; Ceres Terminals, Inc.; Cooper/T. Smith Stevedoring Co., Inc.; Husky Terminal & Stevedoring, Inc.; International Shipping Agency; International Transportation Service, Inc.; Lambert's Point Docks Inc.; Maher Terminals, Inc.; Marine Terminals Corp.; Massachusetts Port Authority; P&O Ports North America, Inc.; Port of Tacoma; South Carolina State Ports Authority; Stevedoring Services of America, Inc.; Trans Bay Container Terminal, Inc.; TraPac Terminals; Virginia International Terminals; and Yusen Terminals, Inc.

Filing Parties: Carol N. Lambos, The Lambos Firm, 29 Broadway, 9th Floor, New York, NY 10006 and Charles T. Carroll, Jr., Carroll & Froelich, PLLC, 2011 Pennsylvania Avenue, NW., Suite 301, Washington, DC 20006.

Synopsis: The amendment removes CMA CGM, S.A. as a party to the agreement.

Agreement No.: 011919.

Title: Maersk Sealand/P&O Nedlloyd Agreement.

Parties: A.P. Moller-Maersk A/S and P&O Nedlloyd Limited/P&O Nedlloyd B.V.

Filing Parties: Mark J. Fink, Esq.; Sher & Blackwell LLP; 1850 M Street NW., Suite 900, Washington, DC 20036; and Paul D. Coleman, Esq., Hoppel, Mayer & Coleman, 1000 Connecticut Ave. NW., Suite 400, Washington, DC 20036.

Synopsis: The proposed agreement would authorize the parties to discuss and agree on rates, terms, and conditions in all U.S. trades; share space on each other's vessels; and engage in other cooperative activities. The parties request expedited review.

Agreement No.: 200866-005.

Title: Lease and Operating Agreement.

Parties: Broward County, King Ocean Service de Venezuela, S.A., and King Ocean Services, Ltd.

Filing Party: Candace J. McCann, Broward County Board of County Commissioners, Office of the County Attorney, 1850 Eller Drive, Suite 502, Fort Lauderdale, FL 33316.

Synopsis: The agreement revises payments under the agreement.

Agreement No.: 201165.

Title: Marine Terminal Lease and Operating Agreement. Parties: Broward County and Saw Grass Transport, Inc.

Filing Party: Candace J. McCann, Broward County Board of County Commissioners, Office of the County Attorney, 1850 Eller Drive Suite 502, Fort Lauderdale, FL 33316.

Synopsis: The agreement provides for the lease and operation of terminal facilities at Port Everglades, Florida.

Agreement No.: 201166.

Title: Marine Terminal Lease and Operating Agreement.

Parties: Broward County, Florida International Terminal, LLC, and Compania Sud Americana de Vapores, S.A. (as guarantor).

Filing Party: Candace J. McCann; Broward County Board of County Commissioners, Office of the County Attorney, 1850 Eller Drive Suite 502, Fort Lauderdale, FL 33316.

Synopsis: The agreement provides for the lease and operation of terminal facilities at Port Everglades, Florida.

Dated: August 5, 2005.
By Order of the Federal Maritime Commission.
Bryant VanBrakle,
Secretary.

[FR Doc. 05-15843 Filed 8-10-05; 8:45 am]

BILLING CODE 6730-01-P